DEPARTMENT OF AGRICULTURE

Submission for OMB Review; Comment Request

May 10, 2005.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Gypsy Moth Identification Worksheet.

OMB Control Number: 0579-0104.

Summary of Collection: The Department of Agriculture is responsible for preventing plant diseases or insect pests (such as Gypsy Moth) from entering the United States, preventing the spread of pest and Noxious Weeds not widely distributed in the U.S., and eradicating those imported pests when eradication is feasible. The Plant Protection and Quarantine Service (PPQ) of the Animal and Plant Health Inspection Service (APHIS) engages in detection surveys to monitor the presence of the European gypsy moth and the Asian gypsy moth. The European gypsy moth is one of the most destructive pests of fruit and ornamental trees as well as hardwood forests. The Asian gypsy moth is an exotic strain of gypsy moth that is closely related to the European variety already established in the U.S. This strain is considered to pose an even greater threat to trees and forested areas. In order to determine the presence and extent of a European gypsy moth or an Asian gypsy moth infestation, APHIS sets traps in high-risk areas to collect specimens.

Need and Use of the Information: APHIS will collect information from the Gypsy Moth Identification Worksheet, PPQ Form 305, to identify and track specific specimens that are sent for test based on DNA analysis. This information collected is vital to APHIS” ability to monitor, detect, and eradicate gypsy moth infestations and the worksheet is completed only when traps are found to contain specimens. Information on the worksheet includes the name of the submitter, the submitter's agency, the date collected, the trap number, and the trap's location (including the nearest port of entry), the number of specimens in the trap, and the date the specimen was sent to the laboratory.

Description of Respondents: State, Local or Tribal Government; Federal Government.

Number of Respondents: 120.

Frequency of Responses: Reporting; On occasion.

Total Burden Hours: 41.

Ruth Brown,
Departmental Information Collection Clearance Officer.

[FR Doc. 05-9647 Filed 5-13-05; 8:45 am]

BILLING CODE 3410-34-P